DEPARTMENT OF THE INTERIOR

Bureau of Land Management

[CACA-48668, 49502, 49503, 49504; L51010000 FX0000 LVRWB09B2400 LLCAD09000]

Notice of Availability of the Record of Decision for the Ivanpah Solar Electric Generating System Project and Approved Plan Amendment to the California Desert Conservation Area Plan, San Bernardino County, CA

AGENCY: Bureau of Land Management, Interior.

ACTION: Notice of availability.

SUMMARY: The Bureau of Land Management (BLM) announces the availability of the Record of Decision (ROD)/Approved Plan Amendment (PA) to the California Desert Conservation Area (CDCA) Plan for the Ivanpah Solar Electric Generating System (ISEGS) Project located in San Bernardino County, California. The Secretary of the Interior signed the ROD on October 7, 2010 which constitutes the final decision of the Department. The ROD/Approved PA are effective immediately.

ADDRESSES: Copies of the ROD/Approved PA have been sent to affected Federal, state, and local government agencies and to other stakeholders and are available upon request at the BLM's Needles Field Office, 1303 South Highway 95, Needles, California 92363 or via the Internet at: http://www.blm.gov/ca/st/en/fo/needles/nefo_nepa.html.

FOR FURTHER INFORMATION CONTACT: Tom Hurshman, Project Manager, at 2465 South Townsend Ave., Montrose, Colorado 81401; phone: (970) 240-5345; e-mail: caisegs@blm.gov.

SUPPLEMENTARY INFORMATION: The ISEGS Project was proposed by Solar Partners I, Solar Partners II, Solar Partners IV, and Solar Partners VIII, LLC all subsidiaries of Bright Source Energy (BSE) who filed four right-of-way (ROW) applications on public land for development of the thermal solar power tower project. The Selected Alternative approved in the ROD is the Mitigated Ivanpah 3 Alternative that would generate 370 MW of electricity and would be located on approximately 3,472 acres of public land. The BLM will authorize the project through the issuance of four ROW grants pursuant to Title V of the Federal Land Policy and Management Act. The project site is located entirely on public land administered by the BLM, approximately 4.5 miles south of Primm, Nevada in San Bernardino County, California.

The CDCA Plan Amendment/Final Environmental Impact Statement was published on August 6, 2010 (75 FR 47619), initiating a 30-day protest period and concurrent 30-day comment period. Six protests of the proposed plan amendment and 18 comments on the project were received. Public comments and protests did not significantly change the decisions in the ROD/Approved PA. The BLM has consulted with other Federal, State and local agencies.

The California Governor's Office of Planning and Research did not identify any inconsistencies with the proposed PA and any state plans, policies or programs.

Because this decision is approved by the Secretary of the Department of the Interior, it is not subject to appeal (43 CFR 4.410(a)(3)).

Authority: 40 CFR 1506.6.

Mike Pool,
Deputy Director, Bureau of Land Management.

[FR Doc. 2010-25858 Filed 10-13-10; 8:45 am]

BILLING CODE 4310-40-P\